DEPARTMENT OF COMMERCE

International Trade Administration

[A-570-504]

Notice of Extension of Time Limit for Preliminary Results of the Antidumping Duty Administrative Review: Petroleum Wax Candles From the People's Republic of China

AGENCY: Import Administration, International Trade Administration, Department of Commerce.

EFFECTIVE DATE: March 26, 2003.

SUMMARY: The Department of Commerce (the Department) is extending the time limit for the preliminary results of the antidumping duty administrative review of petroleum wax candles from the People's Republic of China (PRC) until no later than September 2, 2003. This review covers the period August 1, 2001, through July 31, 2002. The extension is made pursuant to section 751(a)(3)(A) of the Tariff Act of 1930, as amended (“the Act”).

FOR FURTHER INFORMATION CONTACT: Sally C. Gannon or Mark Hoadley, Office of AD/CVD Enforcement 7, Import Administration, International Trade Administration, U.S. Department of Commerce, 14th Street and Constitution Avenue, N.W., Washington, D.C. 20230, at (202) 482-0162 or (202) 482-3148, respectively.

SUPPLEMENTARY INFORMATION:

Background

The Department of Commerce (the Department) received a timely request on August 30, 2002, from the National Candle Association (petitioners) for an administrative review of the antidumping duty order on petroleum wax candles from the PRC, with respect to 104 companies. The Department also received timely administrative review requests from Dongguan Fay Candle Co. (Dongguan), Walmart Stores (Walmart), and Qingdao Kingking Applied Chemistry Co., Ltd. (Kingking) on August 30, 2002. On September 25, 2002, the Department published a notice of initiation of this administrative review, covering 108 companies, for the period of August 1, 2001, through July 31, 2002 (67 FR 60210).¹ On November 18, 2002, the Department received a timely withdrawal from Walmart of its request for an administrative review. On January 29, 2003, the Department selected the following top five exporters, by value, of petroleum wax candles to the United States during the period of review as mandatory respondents: Dongguan, Smartcord Int'l Co., Ltd/Rich Talent Trading, Kingking, Amstar Business Co., Ltd., and Jiangsu Holly Corporation. See Memorandum from Jessica Burdick through Sally C. Gannon to Barbara E. Tillman Regarding Respondent Selection in the 2001-02 Administrative Review of Petroleum Wax Candles from the People's Republic of China (January 29, 2003) (public version on file in the Department's Central Records Unit, in Room B-099).

¹ Although there were 109 actual requests for review, one company (Qingdao KingKing Applied Chemistry Co., Ltd.) individually requested a review and was also listed on the National Candle Association's request for review; therefore, there were only 108 companies for which an administrative review was requested.

Extension of Time Limits for Preliminary Results

Pursuant to section 751(a)(3)(A) of the Act, the Department shall issue preliminary results in an administrative review of an antidumping duty order within 245 days after the last day of the anniversary month of the date of publication of the order. The Act further provides, however, that the Department may extend that 245-day period to 365 days if it determines it is not practicable to complete the review within the foregoing time period.

In light of the complexity of the respondent selection process and of analyzing the numerous questionnaire responses which will be submitted by respondents in this administrative review, it is not practicable to complete the preliminary results of this review by the current deadline of May 3, 2003.

Therefore, in accordance with section 751(a)(3)(A) of the Act, the Department is extending the time limit for the preliminary results by 120 days, until no later than August 31, 2003. However, as this date falls on a weekend, the due date will fall on the next business day. Since September 1 is a national holiday, the next business day is September 2, 2003. The final results continue to be due 120 days after the publication of the preliminary results.

This notice is issued and published in accordance to sections 751(a)(1) and 777(I)(1) of the Act.

Dated: March 20, 2003.
Barbara E. Tillman,
Acting Deputy Assistant Secretary for Import Administration, Group III.

[FR Doc. 03-7258 Filed 3-25-03; 8:45 am]

BILLING CODE 3510-DS-S